DEPARTMENT OF THE INTERIOR

Bureau of Land Management

[LLWY920000 L1320000 PP0000 223]

Notice of Intent To Amend the Resource Management Plans for the Buffalo Field Office, Wyoming, and Miles City Field Office, Montana, and Prepare Associated Supplemental Environmental Impact Statements

AGENCY: Bureau of Land Management, Interior.

ACTION: Notice of intent.

SUMMARY: In compliance with the National Environmental Policy Act of 1969, as amended (NEPA), and the Federal Land Policy and Management Act of 1976, as amended, the Bureau of Land Management (BLM) Wyoming and Montana/Dakotas State Directors each intend to prepare Resource Management Plan (RMP) amendments with associated Supplemental Environmental Impact Statements (EIS) for the Supplemental EIS and Potential RMP for the Buffalo Approved RMP and the Supplemental EIS and Potential RMP Amendment for the Miles City Approved RMP and by this notice are announcing the beginning of the scoping periods to solicit public comments and identify issues, and are providing the planning criteria for public review.

DATES: The BLM requests the public submit comments concerning the scope of these analyses, potential alternatives, and identification of relevant information and studies by November 2, 2022. To afford the BLM the opportunity to consider issues raised by commenters in the Draft RMP amendments/Supplemental EISs, please ensure your comments are received prior to the close of the 30-day scoping period or 15 days after the last public meeting, whichever is later. The Buffalo Field Office will host a public meeting at the Campbell County Public Library, 2101 S 4J Road, Gillette, WY, from 5 p.m. to 7 p.m. on October 17, 2022. The Miles City Field Office will host a public meeting at the Miles City Field Office, 111 Garryowen Road, Miles City, Montana, from 5 p.m. to 7 p.m. on Oct 18, 2022.

ADDRESSES: You may submit comments on issues and planning criteria related to the Buffalo Field Office RMP amendment/Supplemental EIS by any of the following methods:

• Website: https://eplanning.blm.gov/eplanning-ui/project/2021239/510.

• Mail: Buffalo RMP Amendment/Supplemental EIS, Attn: Thomas Bills, Project Manager, BLM Buffalo Field Office, 1425 Fort Street, Buffalo, WY 82834.

Documents pertinent to this proposal may be examined online at https://eplanning.blm.gov/eplanning-ui/project/2021239/510 and at the Buffalo Field Office.

You may submit comments on issues and planning criteria related to the Miles City Field Office RMP Amendment/Supplemental EIS by any of the following methods:

• Website: https://eplanning.blm.gov (search for DOI-BLM-MT-2022-0086-RMP-EIS).

• Mail: Miles City RMP Amendment/Supplemental EIS, Attn: Irma Nansel, Project Manager, BLM Miles City Field Office, 111 Garryowen Road, Miles City, MT 59301.

Documents pertinent to this proposal may be examined online at https://eplanning.blm.gov (search for DOI-BLM-MT-2022-0086-RMP-EIS) and at the Miles City Field Office.

FOR FURTHER INFORMATION CONTACT: The Buffalo Field Office RMP amendment/Supplemental EIS contact is Thomas Bills, Project Manager, telephone 307-684-1131; address BLM Buffalo Field Office, 1425 Fort Street Buffalo, WY 82834; email tbills@blm.gov. Contact Mr. Bills to have your name added to the Buffalo RMP amendment/Supplemental EIS mailing list.

The Miles City Field Office RMP amendment/Supplemental EIS contact is Irma Nansel, Project Manager, telephone (406) 233-3653; address BLM Miles City Field Office, 111 Garryowen Road, Miles City, MT, 59301; email inansel@blm.gov. Contact Ms. Nansel to have your name added to the Miles City RMP amendment/Supplemental EIS mailing list.

Individuals in the United States who are deaf, deafblind, hard of hearing, or have a speech disability may dial 711 (TTY, TDD, or TeleBraille) to access telecommunications relay services for contacting Mr. Bills or Ms. Nansel. Individuals outside the United States should use the relay services offered within their country to make international calls to the point-of-contact in the United States.

SUPPLEMENTARY INFORMATION: This document provides notice that the BLM Wyoming and Montana/Dakotas State Directors intend to each prepare an RMP amendment with associated Supplemental EIS for the Buffalo and Miles City Field Offices, respectively, announces the beginning of the scoping processes, and seeks public input on issues and planning criteria. These RMP amendments are in response to a United States District Court of Montana order (Western Organization of Resource Councils, et al. v. BLM; 4:20-cv-00076-GF-BMM 8/3/2022) that, related to this effort, ordered BLM to complete new coal screening and remedial NEPA analysis to address the following: (1) considering no leasing and limited coal leasing alternatives, and (2) disclosing the public health impacts, both climate and non-climate, of burning fossil fuels (coal, oil, and gas) from the planning areas.

The Buffalo RMP amendment planning area is located in Campbell, Johnson, and Sheridan Counties, Wyoming, and encompasses approximately 780,000 surface acres of public land and 4.8 million acres of Federal mineral estate.

The Miles City RMP amendment planning area is located in Carter, Custer, Daniels, Dawson, Fallon, Garfield, McCone, Powder River, Prairie, Richland, Roosevelt, Rosebud, Sheridan, Treasure, Wibaux and portions of Big Horn and Valley Counties, Montana, and encompasses approximately 2.7 million surface acres and 11.7 million acres of Federal mineral estate.

The scope of this land use planning process does not include addressing the evaluation or designation of areas of critical environmental concern (ACEC) and the BLM is not considering ACEC nominations as part of this process.

Purpose and Need

The purpose of these RMP Amendments/Supplemental EISs is to provide additional analysis for land use planning that address the following:

(1) Complete new coal screening and analysis that considers a no leasing and limited coal leasing alternatives; and

(2) Disclose the public health impacts, both climate and non-climate, of burning fossil fuels (coal, oil, and gas) from the planning areas.

Preliminary Alternatives

Each of the RMP amendments/Supplemental EISs will include at least three alternatives varying the amount of BLM-administered Federal coal authorized to be available for leasing. The preliminary alternatives are: (1) the BLM-administered Federal coal within the Coal Development Potential Areas established in the 2019 RMP amendments/Supplemental EISs would be available for further consideration of leasing (No Action); (2) the Coal Development Potential Areas would be unavailable for leasing (no leasing alternative); and (3) a reduced level of coal leasing within the Coal Development Potential Areas. The BLM welcomes comments on all preliminary alternatives as well as suggestions for additional alternatives for either RMP amendment/Supplemental EIS.

Planning Criteria

The planning criteria guide the planning effort and lay the groundwork for effects analysis by identifying the preliminary issues and their analytical frameworks. Preliminary issues for the planning areas have been identified by BLM personnel and from early engagement conducted for these planning efforts with Federal, State, and local agencies; Tribes; and other stakeholders.

The BLM has identified the court ordered preliminary issues and analytical frameworks for these planning efforts' analyses. The BLM has identified the available coal resource data as part of these framework. The BLM requests that industry; State, Tribal, and local governments; and the public interested in coal management in the planning areas provide the BLM relevant coal resource data that can help inform these projects. Specifically, the BLM requests information on the development potential (e.g., location, quality, and quantity) of the BLM-administered coal mineral estate, and on surface resource values related to multiple use conflicts and the suitability of the planning area for coal development. We will use this information to complete the RMP Amendments/Supplemental EISs consistent with 43 CFR 3420.1-4, and to formulate alternatives that identify areas acceptable for further leasing consideration. We are requesting these data to ensure that these planning efforts have sufficient information and data to consider a reasonable range of resource uses, management options, and alternatives for managing BLM-administered Federal coal mineral estate. Proprietary data marked as confidential may be submitted in response to this call for coal and other resource information. Please submit all proprietary information to the appropriate Field Manager at their address listed earlier. The BLM will treat submissions marked as “Confidential” in accordance with the laws and regulations governing the confidentiality of such information.

The planning criteria are available for public review and comment at the ePlanning website (see ADDRESSES) for each RMP Amendment/Supplemental EIS.

Summary of Expected Impacts

In each RMP Amendment/Supplemental EIS, the BLM will disclose the impacts of no-coal leasing and limited-coal leasing alternatives and will also disclose the public health impacts, both climate and non-climate, of burning fossil fuels from the Field Office planning area, including both greenhouse and non-greenhouse gas emissions.

Schedule for the Decision-Making Process

The BLM will provide additional opportunities for public participation consistent with the NEPA and land use planning processes, including 90-day comment periods on the Draft RMP Amendments/Supplemental EISs and concurrent 30-day public protest periods and 60-day Governor's consistency reviews on the Proposed RMP Amendments/Supplemental EISs. The Draft RMP Amendments/Supplemental EISs are anticipated to be available for public review Winter 2022-2023 and the Proposed RMP Amendments/Final EISs are anticipated to be available for public protest of the Proposed RMP Amendment Summer 2023 with Approved RMP Amendments and Record of Decisions in Fall 2023.

Public Scoping Process

This notice of intent initiates the scoping periods and public reviews of the planning criteria, which guide the development and analysis of the Draft RMP Amendments/Supplemental EISs.

The BLM will be holding scoping meetings (see DATES and ADDRESSES sections earlier). The date(s) and location(s) of any additional scoping meetings will be announced at least 15 days in advance through local media, newspapers, the ePlanning project pages, and BLM social media.

Cooperating Agencies

Potential Cooperating Agencies identified by the BLM for the Buffalo Field Office RMP Amendment/Supplemental EIS include: the Wyoming Office of the Governor; Wyoming Department of Environmental Quality; Wyoming Department of Game and Fish; Campbell County, Wyoming; Johnson County, Wyoming; U.S. Environmental Protection Agency (EPA) Region 8; U.S. Department of the Interior (DOI) Office of Surface Mining, Reclamation and Enforcement (OSMRE); and the U.S. DOI Fish and Wildlife Service (USFWS).

Potential Cooperating Agencies identified by the BLM for the Miles City Field Office RMP Amendment/Supplemental EIS include: the Montana Office of the Governor; Montana Department of Environmental Quality; Montana Department of Natural Resources and Conservation; Montana Fish, Wildlife and Parks; Big Horn County, Montana; Rosebud County, Montana; EPA Region 8; OSMRE; and USFWS.

Responsible Officials

The Wyoming State Director is the deciding official for the Buffalo planning effort, and the Montana/Dakotas State Director is the deciding official for the Miles City planning effort.

Nature of Decision To Be Made

The nature of the decisions to be made will be the State Directors' selection of land use planning decisions pursuant to these RMP amendments for managing BLM-administered lands under the principles of multiple use and sustained yield in a manner that best addresses the purpose and need.

Interdisciplinary Team

The BLM will use an interdisciplinary approach to develop the plan amendments in order to consider the variety of resource issues and concerns identified. Specialists with expertise in the following disciplines will be involved in these planning efforts: air resources, planning, rangeland management, minerals and geology, outdoor recreation, archaeology, wildlife and fisheries, lands and realty, hydrology, soils, sociology, and economics.

Additional Information

The BLM will identify, analyze, and consider mitigation to address the reasonably foreseeable impacts to resources from the proposed plan amendments and all analyzed reasonable alternatives and, in accordance with 40 CFR 1502.14(e), include appropriate mitigation measures not already included in the proposed plan amendments or alternatives. Mitigation may include avoidance, minimization, rectification, reduction or elimination over time, and compensation, and may be considered at multiple scales, including the landscape scale.

The BLM will utilize and coordinate the NEPA and land use planning processes for these planning efforts to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the areas potentially affected by the proposed plan amendments will assist the BLM in identifying and evaluating impacts to such resources.

The BLM will coordinate and consult with Indian Tribal Nations on a government-to-government basis in accordance with Executive Order 13175, BLM MS 1780, and other Departmental policies. Tribal concerns, including impacts on Indian trust assets and potential impacts to cultural resources, will be given due consideration. The BLM intends to hold a series of government-to-government consultation meetings, and will send invites to potentially affected Tribal Nations prior to the meetings. The BLM will provide additional opportunities for government-to-government consultation during the NEPA processes. Federal, State, and local agencies, along with Indian Tribal Nations and other stakeholders that may be interested in or affected by the proposed Buffalo and Miles City RMP amendments that the BLM is evaluating, are invited to participate in the scoping processes and, if eligible, may request or be requested by the BLM to participate in the development of the environmental analyses as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.7 and 43 CFR 1610.2)

Andrew Archuleta,
Wyoming State Director.
Theresa M. Hanley,
Montana/Dakotas Associate State Director.

[FR Doc. 2022-21413 Filed 9-30-22; 8:45 am]

BILLING CODE 4310-22-P